DEPARTMENT OF LABOR

Employment and Training Administration

[TA-W-63,366]

Tetra Pak, Minneapolis, MN; Notice of Termination of Investigation

Pursuant to Section 221 of the Trade Act of 1974, as amended, an investigation was initiated on May 12, 2008 in response to a worker petition filed by a state agency representative on behalf of workers of Tetra Pak, Minneapolis, Minnesota.

The petitioner has requested that the petition be withdrawn. Consequently, the investigation has been terminated.

Signed at Washington, DC, this 12th day of May 2008.
Richard Church,
Certifying Officer, Division of Trade Adjustment Assistance.

[FR Doc. E8-11365 Filed 5-20-08; 8:45 am]

BILLING CODE 4510-FN-P